DEPARTMENT OF COMMERCE

National Oceanic and Atmospheric Administration

[0648-XC242]

Magnuson-Stevens Act Provisions; General Provisions for Domestic Fisheries; Application for Exempted Fishing Permit

AGENCY: National Marine Fisheries Service (NMFS), National Oceanic and Atmospheric Administration (NOAA), Commerce.

ACTION: Notice; request for comments.

SUMMARY: The Assistant Regional Administrator for Sustainable Fisheries, Northeast Region, NMFS, has made a preliminary determination that the subject exempted fishing permit (EFP) application contains all the required information and warrants further consideration. The subject EFP would allow a commercial fishing vessel to conduct fishing operations that are otherwise restricted by the regulations governing the fisheries of the Northeastern United States. Regulations under the Magnuson-Stevens Fishery Conservation and Management Act require publication of this notification to provide interested parties the opportunity to comment on applications for proposed EFPs.

DATES: Comments must be received on or before November 13, 2012.

ADDRESSES: You may submit written comments by any of the following methods:

• Email: nero.efp@noaa.gov. Include in the subject line “Comments on REDNET EFP.”

• Mail: John K. Bullard, Regional Administrator, NMFS, NE Regional Office, 55 Great Republic Drive, Gloucester, MA 01930. Mark the outside of the envelope “Comments on REDNET EFP.”

• Fax: (978) 281-9135.

FOR FURTHER INFORMATION CONTACT: Brett Alger, Fisheries Management Specialist, 978-675-2153, Brett.Alger@noaa.gov.

SUPPLEMENTARY INFORMATION: The School for Marine Science and Technology, University of Massachusetts, Dartmouth (SMAST), submitted a complete EFP application on September 5, 2012, to conduct a redfish trawl codend selectivity experiment. This is the third of six components for “REDNET: A Network to Redevelop a Sustainable Redfish (Sebastes fasciatus) Trawl Fishery in the Gulf of Maine”, which is funded by the Northeast Fisheries Science Center's (NEFSC) Cooperative Research Program. The overall objective of REDNET is to develop gear type(s), seasons, and/or area combinations to efficiently harvest the redfish resource in the Gulf of Maine (GOM) to maximize the long-term benefits while minimizing negative impacts, thereby providing a means to achieve the annual catch limit (ACL) for a rebuilt, but largely inaccessible, redfish resource. The REDNET project includes the following components: (1) Network development; (2) baseline catch and bycatch evaluation; (3) codend selectivity; (4) conservation engineering and bycatch reduction; (5) process and marketing; and (6) outreach and implementation. Components one and two have been completed.

REDNET investigators were issued an EFP in support of component two, which authorized the use of a 4.5-in (11.4-cm) mesh codend to establish a baseline for target catch and bycatch in a targeted redfish fishery (see the Notice and Request for Comments from March 8, 2011 (76 FR 12716)). This EFP, which would be in support of component three of the project, would enable investigators to evaluate different codend mesh sizes in an effort to identify the optimal mesh size to selectively harvest legal-size redfish, as well as perform catch sampling activities. To execute the study, the participating vessel would need to be exempt from the following FMP regulations: NE multispecies minimum fish size for redfish specified at § 648.83(a); and minimum mesh size of 6.5 in (16.6 cm) for multispecies vessels fishing in the GOM specified at § 648.80(a)(3)(i). In addition, vessels would be exempt from the following regulations for all remaining large-mesh and small-mesh groundfish species, for sampling purposes only: Minimum fish size restrictions; fish possession limits; species quota closures; possession of prohibited groundfish species; and gear-specific fish possession restrictions. All non-compliant fish would be discarded as soon as practicable following data collection. No fish below the minimum size would be landed.

Tows would be made using the trouser trawl method which consists of a regular trawl's front end (including sweep, fishing line and headline) and a trouser section, which leads to two separate side-by-side codends. The applicants propose to assess codend selectivity by testing three codend mesh sizes. The test codend would use mesh sizes of either 4.5 in (11.4 cm), 5.5 in (14.0 cm), or 6.5 in (16.6 cm), and the control codend would use mesh sizes 2 in (5.1 cm) to 2.25 in (5.7 cm). The test and control codends would be switched regularly between port and starboard to reduce possible side effects, rather than keeping the test codend on the same side of the vessel for all tows.

The vessel would conduct sea trials from early November 2012 to April 30, 2013, with a total of 18 sea-days (three 6-day trips including steaming time). The vessel expects to make seven tows on each of the 12 actual fishing days. The research activity would occur in the middle of the GOM, outside of closed areas, on known redfish concentrations, in statistical areas 513, 514, 515, 521, and 522. The trawl net would be towed at typical fishing speed of approximately 3.2 kts, and the duration of each tow would depend primarily on the amount of fish in the net, rather than time. Acoustic gear monitoring devices would be used during trials to measure the performance of the gear and ensure constant geometry of the trawl's front end.

SMAST/Massachusetts Division of Marine Fisheries (DMF) technical staff, students, and/or qualified at-sea monitors contracted by SMAST/DMF would be on board the vessel for each trip and would document all catch and by catch encountered following NE Fishery Observer Program protocols. About 70 to 100 fish per codend per tow would be measured for both redfish and/or other groundfish species. Sampling work would occur during normal fishing operations and the exemptions for this EFP, if authorized, would not be expected to change vessel fishing behavior. Therefore, it is highly unlikely that this EFP would cause any impact to the physical environment/essential fish habitat, non-sampled species, or protected resources. All marine mammal and turtle interactions would be noted and released, and all corals would be noted and samples kept for further identification and assessment. Codend and control catch data would be analyzed using established methods proposed by the International Council for the Exploration of the Seas in their Manual of Methods of Measuring the Selectivity of Towed Fishing Gears.

All catch of stocks allocated to sectors by the vessel would be deducted from the sector's annual catch entitlement for each NE multispecies stock, including redfish. Specifically, NMFS would apply the sector assumed discard rate to fishing trips by the vessel participating under this EFP, whether the recorded discard rates from the experimental fishing are higher or lower than the assumed discard rate of the sector. The participating vessel would be required to comply with all other applicable requirements and restrictions specified at 50 CFR part 648, unless specifically exempted in this EFP.

If approved, the applicants may request minor modifications and extensions to the EFP throughout the course of research. EFP modifications and extensions may be granted without further public notice if they are deemed essential to facilitate completion of the proposed research and result in only a minimal change in the scope or impacts of the initially approved EFP request.

In accordance with NAO Administrative Order 216-6, a Categorical Exclusion or other appropriate National Environmental Policy Act document would be completed prior to the issuance of the EFP. Further review and consultation may be necessary before a final determination is made to issue the EFP. After publication of this document in the Federal Register, the EFP, if approved, may become effective following the public comment period.

Authority: 16 U.S.C. 1801 et seq.

Dated: October 24, 2012.
James P. Burgess,
Acting Deputy Director, Office of Sustainable Fisheries, National Marine Fisheries Service.

[FR Doc. 2012-26548 Filed 10-26-12; 8:45 am]

BILLING CODE 3510-22-P